DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) • Elevation in feet (NAVD) ◆ Elevation in feet (BCD)
MARYLAND
Baltimore County (Unincorporated Areas) (FEMA Docket No. D-7578)
Herbert Run:
Approximately 350 feet upstream of confluence with Patapsco River | ◆ 25
At confluence of East and West Branch Herbert Run | ◆ 39
Baltimore County (Unincorporated Areas)
East Branch Herbert Run:
At confluence with Herbert Run | ◆ 39
Approximately 850 feet upstream of Wilkens Avenue | ◆ 159
Baltimore County (Unincorporated Areas)
West Branch Herbert Run:
At confluence with Herbert Run | ◆ 39
Approximately 0.64 mile upstream of Sulphur Spring Road | ◆ 119
Baltimore County (Unincorporated Areas)
Arbutus Run:
At confluence with East Branch Herbert Run | ◆ 79
Just downstream of Interstate 695 | ◆ 131
Baltimore County (Unincorporated Areas)
Baltimore County (Unincorporated Areas)
Maps available for inspection at the Baltimore County Office Building, Room 307, 111 West Chesapeake Avenue, Towson, Maryland.
PENNSYLVANIA
Lycoming County (FEMA Docket Nos. D-7562 and D-7574)
Dougherty Run:
At the confluence with Lycoming Creek | *644
Approximately 185 feet upstream of confluence with Lycoming Creek | *644
Township of Lewis
Grays Run:
At the confluence with Lycoming Creek | *719
Approximately 5 feet upstream of the abandoned railroad bridge | *719
Township of Lewis
Gregs Run:
Approximately 523 feet upstream of the confluence with Sugar Run | *560
Approximately 75 feet downstream of Gregs Run Road (Township Route 270) | *574
Township of Wolf
Mill Creek No. 2:
Approximately 150 feet upstream of State Route 87 | *543
Approximately 1,750 feet upstream of State Route 87 | *549
Township of Fairfield
Hoagland Run:
At the confluence with Lycoming Creek | *603
Approximately 1,250 feet upstream of confluence with Lycoming Creek | *603
Township of Lycoming
Little Muncy Creek:
At the confluence with Muncy Creek | *512
Approximately 1.1 miles upstream of Tome Road | *712
Townships of Franklin and Muncy Creek
Loyalsock Creek:
Approximately 30 feet upstream of CONRAIL | *524
Approximately 0.56 mile upstream of Dunwoody Road | *747
Townships of Gamble, Eldred, Fairfield, Montoursville, Loyalsock and Upper Fairfield, Borough of Montoursville
Lycoming Creek:
At upstream side of Memorial Avenue | *534
Approximately 100 feet downstream of County boundary | *644
Townships of Hepburn, Lewis, Loyalsock, Lycoming, McIntyre, McNette and Old Lycoming, City of Williamsport
Mill Creek No. 1:
At the confluence with Lycoming Creek | *576
Approximately 1,100 feet upstream of confluence with Lycoming Creek | *576
Township of Hepburn
Mosquito Creek:
Approximately 25 feet downstream of Edgewood Avenue | *568
Approximately 300 feet upstream of Edgewood Avenue | *574
Borough of Duboistown
Muncy Creek:
At the confluence with West Branch Susquehanna River | *505
Approximately 1.6 miles upstream of Boston Road | *680
Townships of Muncy Creek, Penn, Shrewsbury, and Wolf, Boroughs of Hughesville and Picture Rocks
Rock Run:
At the confluence with Lycoming Creek | *849
Approximately 600 feet upstream of the confluence with Lycoming Creek | *849
Township of McIntyre
Shoemaker Run:
At the confluence with Lycoming Creek | *740
At Bodines Road | *740
Township of Lewis
Stroehmann Overland Flow:
At the confluence with Lycoming Creek | *568
Approximately 325 feet upstream of Pleasant Hill Road | *584
Townships of Lycoming and Old Lycoming
Sugar Run:
At the confluence with Muncy Creek | *542
Approximately 125 feet downstream of confluence of Gregs Run | *559
Township of Wolf
Trout Run:
At the confluence with Lycoming Creek | *674
Approximately 425 feet downstream of State Route 14 | *674
Township of Lewis
Wallis Run:
At the confluence with Loyalsock Creek | *635
Approximately 3.6 miles upstream of Wallis Run Road | *639
Townships of Gamble and Cascade
Wolf Run No. 1:
Approximately 1,710 feet upstream of John Brady Drive | *505
Approximately 1,760 feet upstream of John Brady Drive | *505
Township of Muncy
Wolf Run No. 2:
At the confluence with Lycoming Creek | *657
Approximately 15 feet downstream of abandoned railroad bridge | *663
Township of Lewis
Pine Creek:
Approximately 1.66 miles upstream of confluence with West Branch Susquehanna River | *554
Approximately 1,950 feet upstream of State Route 44 | *628
Townships of Cummings, Porter, and Watson
Nichols Run:
At the confluence with Pine Creek | *555
Approximately 1,510 feet upstream of Algonquin Trail | *557
Township of Porter, Borough of Jersey Shore
Little Pine Creek:
At the confluence with Pine Creek | *622
Approximately 2,450 feet upstream of confluence with Pine Creek | *622
Township of Cummings
Township of Cascade
Maps available for inspection at the Cascade Township Office, 33 Kelly Road, Trout Run, Pennsylvania.
Township of Cummings
Maps available for inspection at the Cummings Township Office, 10978 North Route 44 Highway, Waterville, Pennsylvania.
Borough of Duboistown
Maps available for inspection at the Duboistown Borough Office, 2651 Euclid Avenue, Duboistown, Pennsylvania.
Township of Eldred
Maps available for inspection at the Eldred Township Fire Department, 5556 Warrensville Road, Montoursville, Pennsylvania.
Township of Fairfield
Maps available for inspection at the Fairfield Township Office, 238 Fairfield Church Road, Montoursville, Pennsylvania.
Township of Franklin
Maps available for inspection at the Franklin Township Office, 61 School Lane, Lairdsville, Pennsylvania.
Township of Gamble
Maps available for inspection at the Gamble Township Office, 7670 Wallis Run Road, Trout Run, Pennsylvania.
Township of Hepburn
Maps available for inspection at the Hepburn Township Office, 615 Route 973 East, Cogan Station, Pennsylvania.
Borough of Hughesville
Maps available for inspection at the Hughesville Borough Office, 147 South Fifth Street, Hughesville, Pennsylvania.
Borough of Jersey Shore
Maps available for inspection at the Jersey Shore Borough Office, 232 Smith Street, Jersey Shore, Pennsylvania.
Township of Lewis
Maps available for inspection at the Lewis Township Office, 69 Main Street, Trout Run, Pennsylvania.
Township of Loyalsock
Maps available for inspection at the Loyalsock Township Building, 2501 East Third Street, Williamsport, Pennsylvania.
Township of Lycoming
Maps available for inspection at the Lycoming Township Office, 328 Dauber Road, Cogan Station, Pennsylvania.
Township of McIntyre
Maps available for inspection at the McIntyre Township Office, 47 Thompson Street, Roaring Branch, Pennsylvania.
Township of McNett
Maps available for inspection at the McNett Township Office, 385 Yorktown Road, Roaring Branch, Pennsylvania.
Borough of Montoursville
Maps available for inspection at the Montoursville Borough Office, 617 North Loyalsock Avenue, Montoursville, Pennsylvania.
Township of Muncy
Maps available for inspection at the Muncy Township Office, 1922 Pond Road, Pennsdale, Pennsylvania.
Township of Muncy Creek
Maps available for inspection at the Muncy Creek Township Office, 575 Route 442 Highway, Muncy, Pennsylvania.
Township of Old Lycoming
Maps available for inspection at the Old Lycoming Township Office, 1951 Green Avenue, Williamsport, Pennsylvania.
Township of Penn
Maps available for inspection at the Penn Township Office, 4600 Beaver Lake Road, Hughesville, Pennsylvania.
Borough of Picture Rocks
Maps available for inspection at the Picture Rocks Borough Office, 113 Main Street, Picture Rocks, Pennsylvania.
Township of Plunketts Creek
Maps available for inspection at the Plunketts Creek Township Office, 179 Dunwoody Road, Williamsport, Pennsylvania.
Township of Porter
Maps available for inspection at the Porter Township Office, 5 Shaffer Lane, Jersey Shore, Pennsylvania.
Township of Shrewsbury
Maps available for inspection at the Shrewsbury Township Office, 143 Point Bethel Road, Hughesville, Pennsylvania.
Township of Upper Fairfield
Maps available for inspection at the Upper Fairfield Township Building, 4090 Route 87 Highway, Montoursville, Pennsylvania.
Township of Watson
Maps available for inspection at the Watson Township Office, 1710 Ridge Road, Jersey Shore, Pennsylvania.
City of Williamsport
Maps available for inspection at the Williamsport City Office, 245 West Fourth Street, Williamsport, Pennsylvania.
Township of Wolf
Maps available for inspection at the Wolf Township Office, 695 Route 405 Highway, Hughesville, Pennsylvania.

(Catalog of Federal Domestic Assistance No. 83.100, “Flood Insurance.”)

Dated: March 3, 2004.
Anthony S. Lowe,
Mitigation Division Director, Emergency Preparedness and Response Directorate.

[FR Doc. 04-5246 Filed 3-8-04; 8:45 am]

BILLING CODE 9110-12-P